DEPARTMENT OF TRANSPORTATION

Federal Aviation Administration

14 CFR Part 39

[Docket No. FAA-2011-1158; Directorate Identifier 2010-SW-018-AD; Amendment 39-16847; AD 2011-22-05]

RIN 2120-AA64

Airworthiness Directives; Eurocopter France Helicopters

AGENCY: Federal Aviation Administration (FAA), DOT.

ACTION: Final rule; correction.

SUMMARY: The FAA is correcting an airworthiness directive (AD) that was published in the Federal Register. The AD applies to certain Eurocopter France (Eurocopter) Model AS350B, B1, B2, B3, BA, C, D, and D1 helicopters; and Model AS355E, F, F1, F2, N, and NP helicopters. The reference to Title 14, Code of Federal Regulations (14 CFR) 91.173 in the Compliance section is incorrect. This document corrects that error. In all other respects, the original document remains the same.

DATES: This final rule is effective August 13, 2013. The effective date for AD 2011-22-05 (76 FR 70046, November 10, 2011) remains November 25, 2011.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Jim Grigg, Rotorcraft Directorate, Safety Management Group Manager, FAA, 2601 Meacham Blvd., Fort Worth, TX 76137; phone: (817) 222-5110; fax: (817) 222-5110; email: jim.grigg@faa.gov.

SUPPLEMENTARY INFORMATION: AD 2011-22-05, Amendment 39-16847 (76 FR 70046, November 10, 2011), applies to certain Eurocopter Model AS350B, B1, B2, B3, BA, C, D, and D1 and Model AS355E, F, F1, F2, N, and NP helicopters. AD 2011-22-05 currently requires, in part, a daily check of the tail rotor pitch control rod (control rod) outboard spherical bearing (bearing) for play, and allows this check to be performed by a pilot if certain regulatory recordkeeping requirements are met. As such, AD 2011-22-05 currently includes the following as the last sentence under paragraph (a): “The record must be maintained as required by 14 CFR 91.173, 121.380, or 134.439.”

As published, the reference to 14 CFR 91.173 is incorrect. The correct reference is to 14 CFR 91.417.

No other part of the preamble or regulatory information has been changed; therefore, only the changed portion of the final rule is being published in the Federal Register.

Correction of Regulatory Text

§ 39.13 [Corrected]

In the Federal Register of November 10, 2011, on page 70048, in the third column, the last sentence of paragraph (a) is corrected to read as follows:

* * * * *

The record must be maintained as required by 14 CFR 91.417, 121.380, or 135.439.

* * * * *

Issued in Fort Worth, Texas, on August 2, 2013.
Lance T. Gant,
Acting Manager, Rotorcraft Directorate, Aircraft Certification Service.

[FR Doc. 2013-19457 Filed 8-12-13; 8:45 am]

BILLING CODE 4910-13-P